ENVIRONMENTAL PROTECTION AGENCY

[FRL-7886-6]

Partnership to Promote Innovation in Environmental Practice, Notice of Availability and Request for Proposals—Clarification

AGENCY: Environmental Protection Agency (EPA).

ACTION: Notice of availability of solicitation for proposals.

SUMMARY: The Environmental Protection Agency's National Center for Environmental Innovation (NCEI) is amending its March 7, 2005 (70 FR 11011) notice to clarify that the purpose of its solicitation is to solicit proposals from institutions that are interested in promoting innovations that can improve environmental results from State programs. NCEI is also clarifying that the Web site address for the full solicitation is http://www.epa.gov/innovation/symposia.htm. NCEI is extending the application period until May 2, 2005.

DATES: Interested applicants have until May 2, 2005 to submit a proposal.

ADDRESSES: Due to heightened security requirements, there may be substantial delays in mail service to EPA. Hence, EPA strongly encourages applicants to send applications electronically. Electronic applications must be sent to State_Innovation_Grants@epa.gov. Applicants choosing to submit paper applications should mail one original and two copies to the EPA contact, Sandy Germann. Please also note that the delivery address varies depending on whether you are using regular mail or using a delivery service (e.g., Federal Express, Courier, UPS). If you are using a delivery service, send it to Sandy Germann, U.S. EPA, Room 645C, 4930 Page Road, Research Triangle Park, NC 27703. If you are sending the application via regular mail, send it to Sandy Germann, U.S. EPA, MC C604-02, Research Triangle Park, NC 27711.

FOR FURTHER INFORMATION CONTACT: Sandy Germann, U.S. EPA, MC C604-02, RTP, NC 27711, (919 541-3061), germann.sandy@epa.gov.

Dated: March 10, 2005.
Elizabeth Shaw,
Director, Office of Environmental Policy Innovation.

[FR Doc. 05-5414 Filed 3-17-05; 8:45 am]

BILLING CODE 6560-50-P